DEPARTMENT OF ENERGY

Federal Energy Regulatory Commission

[Project Nos. 10253-042; 10254-039]

Pelzer Hydro Company, LLC; Consolidated Hydro Southeast, LLC; Notice of Application of Transfer of Licenses and Soliciting Comments, Motions To Intervene, and Protests

On April 23, 2024, Pelzer Hydro Company, LLC (Pelzer Hydro) and Consolidated Hydro Southeast, LLC (Consolidated Hydro) filed an application for partial transfer of licenses of their 3,300-kilowatt Lower Pelzer Hydroelectric Project No. 10253 and the 1,950-kilowatt Upper Pelzer Hydroelectric Project No. 10254. The projects are located on the Saluda River in Anderson and Greenville counties, South Carolina and do not occupy federal land.

Pursuant to 16 U.S.C. 801, the applicants, co-licensees for the projects, seek Commission approval to transfer the licensee interest of Consolidated Hydro to Pelzer Hydro, which would become sole licensee for both projects.

Applicants Contacts:

For Pelzer Hydro: Kevin Webb, Hydro Licensing Manager, Patriot Hydro, LLC, 670 N. Commercial Street, Suite 204, Manchester, NH 03101, kwebb@patriothydro.com.

For Consolidated Hydro: Consolidated Hydro Southeast, LLC, Attn: General Counsel, 100 Brickstone Sq., Suite 300, Andover, MA 01810, generalcounsel@enel.com.

FERC Contact: Steven Sachs, Phone: (202) 502-8666, Email: Steven.Sachs@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY).

In lieu of electronic filing, you may submit a paper copy. Submissions sent via U.S. Postal Service must be addressed to, Debbie-Anne A. Reese, Acting Secretary, Federal Energy Regulatory Commission, 888 First Street NE, Room 1A, Washington, DC 20426. Submissions sent via any other carrier must be addressed to, Debbie-Anne A. Reese, Acting Secretary, Federal Energy Regulatory Commission, 12225 Wilkins Avenue, Rockville, Maryland 20852. The first page of any filing should include docket numbers P-10253-042 and P-10254-039. Comments emailed to Commission staff are not considered part of the Commission record.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 23, 2024.
Debbie-Anne A. Reese,
Acting Secretary.

[FR Doc. 2024-11883 Filed 5-29-24; 8:45 am]

BILLING CODE 6717-01-P